DEPARTMENT OF ENERGY

Federal Energy Regulatory Commission

[Docket No. IC09-912-001]

Commission Information Collection Activities (FERC-912); Comment Request; Submitted for OMB Review

November 25, 2009.

AGENCY: Federal Energy Regulatory Commission.

ACTION: Notice.

SUMMARY: In compliance with the requirements of section 3507 of the Paperwork Reduction Act of 1995, 44 USC 3507, the Federal Energy Regulatory Commission (Commission or FERC) has submitted the information collection described below to the Office of Management and Budget (OMB) for review of the information collection requirements. Any interested person may file comments directly with OMB and should address a copy of those comments to the Commission as explained below. The Commission received no comments in response to the Federal Register notice (74FR 47567, 9/16/2009) and has made this notation in its submission to OMB.

DATES: Comments on the collection of information are due by January 4, 2010.

ADDRESSES: Address comments on the collection of information to the Office of Management and Budget, Office of Information and Regulatory Affairs, Attention: Federal Energy Regulatory Commission Desk Officer. Comments to OMB should be filed electronically, c/o oira_submission@omb.eop.gov and include OMB Control Number 1902-0237 as a point of reference. The Desk Officer may be reached by telephone at 202-395-4638. A copy of the comments should also be sent to the Federal Energy Regulatory Commission and should refer to Docket No. IC09-912-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-912-001.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: FERC-912 (“Cogeneration and Small Power Production, PURPA Section 210(m) Regulations for Termination or Reinstatement of Obligation to Purchase or Sell,” OMB Control No. 1902-0237) ¹ covers the reporting requirements in 18 CFR Part 292.

¹ During its history, “FERC-912” has been known by various `names' and OMB control numbers. Originally, FERC had wanted to include FERC-912 requirements in the FERC-556 `umbrella' of requirements. Because FERC-556 (“Cogeneration and Small Power Production;” OMB Control No. 1902-0075) was pending OMB review of another rulemaking (in Docket No. RM05-36-000) prior to the issuance of the Notice of Proposed Rulemaking (NOPR) in RM06-10, the Commission used a temporary identifier of “FERC-912”.

“FERC-912” was originally assigned the OMB Control No. 1902-0219 at the NOPR stage. However, prior to issuance of the final rule in Docket RM06-10, OMB Control No. 1902-0219 was eliminated from OMB's inventory.

FERC-556 (OMB Control No. 1902-0075) was then approved in RM05-36, so FERC used the “FERC-912(556)” identifier in the Final Rule in RM06-10. The Commission planned to transfer the hours associated with “FERC-912(556)” in RM06-10 to FERC-556. Page two of the OMB approval (dated 2/23/2007) for ICR Reference Number 200611-1902-003 listed OMB Control No. 1902-0237 as FERC-556.

Currently FERC-556 (OMB Control No. 1902-0075) is pending OMB review, so this collection is being called “FERC-912” and is being submitted separately. FERC-556 is not a subject of this Notice.

On August 8, 2005, the Energy Policy Act of 2005 (EPAct 2005, Pub. L. No. 109-58, 119 Stat. 594 (2005)) was signed into law. Section 1253(a) of EPAct 2005 amends section 210 of the Public Utility Regulatory Policies Act of 1978 (PURPA) by adding subsection (m), that provides for the termination and reinstatement of an electric utility's obligation to purchase and sell energy and capacity. The implementing regulations in 18 CFR Part 292 (18 CFR 292.309-292.313) provide procedures for:

■ An electric utility to file an application for the termination of its obligation to purchase energy from a Qualifying Facility (QF) (18 CFR 292.310);

■ an affected entity or person to apply to the Commission for an order reinstating the electric utility's obligation to purchase energy from a QF (18 CFR 292.311);

■ an electric utility to file an application for the termination of its obligation to sell energy and capacity to QFs (18 CFR 292.312);

■ an affected entity or person to apply to the Commission for an order reinstating the electric utility's obligation to sell energy and capacity to QFs (18 CFR 292.313).

ACTION: The Commission is requesting a three-year extension of the current expiration date for the FERC-912, with no changes to the reporting requirements.

Burden Statement: The public reporting burden for this collection is estimated to be as follows:

FERC-912 | Annual number of respondents | Average number of reponses per respondent | Average burden hours per response | Total annual burden hours
| (1) | (2) | (3) | (1)×(2)×(3)
Termination of obligation to purchase in § 292.310 | 4 | 1 | 12 | 48
Reinstatement of obligation to purchase in § 292.311 | 1 | 1 | 13 | 13
Termination of obligation to sell in § 292.312 | 1 | 1 | 12 | 12
Reinstatement of obligation to sell in § 292.313 | 1 | 1 | 13 | 13
Totals |  |  |  | 86

The total estimated annual cost burden to respondents is $5,304.58 [(86 hours/2,080 hours ² per year) × $128,297 ³ per year].

² Number of hours an employee works each year.

³ Estimated mean annual salary of a lawyer.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-28919 Filed 12-3-09; 8:45 am]

BILLING CODE 6717-01-P